NATIONAL FOUNDATION ON THE ARTS AND THE HUMANITIES

Meetings of Humanities Panel

AGENCY: National Endowment for the Humanities.

ACTION: Notice of meetings.

SUMMARY: The National Endowment for the Humanities (NEH) will hold eleven meetings of the Humanities Panel during September, 2014 as follows. The purpose of the meetings is for panel review, discussion, evaluation, and recommendation of applications for financial assistance under the National Foundation on the Arts and Humanities Act of 1965.

DATES: See SUPPLEMENTARY INFORMATION section for meeting dates.

ADDRESSES: The meetings will be held at Constitution Center, 400 7th Street SW., Washington, DC 20506. See SUPPLEMENTARY INFORMATION section for meeting room numbers.

FOR FURTHER INFORMATION CONTACT: Lisette Voyatzis, Committee Management Officer, 400 7th Street SW., Room 4060, Washington, DC 20506, or call (202) 606-8322. Hearing-impaired individuals are advised that information on this matter may be obtained by contacting the National Endowment for the Humanities' TDD terminal at (202) 606-8282.

SUPPLEMENTARY INFORMATION: Pursuant to section 10(a)(2) of the Federal Advisory Committee Act (5 U.S.C. App.), notice is hereby given of the following meetings:

1. Date: September 03, 2014.

Time: 8:30 a.m. to 5:00 p.m.

Room: P002.

This meeting will discuss applications on the subjects of Literature and Art for the Digital Projects for the Public grant program, submitted to Division of Public Programs.

2. Date: September 04, 2014.

Time: 8:30 a.m. to 5:00 p.m.

Room: P003.

This meeting will discuss applications for the Preservation and Access Research and Development grant program, submitted to the Division of Preservation and Access.

3. Date: September 04, 2014.

Time: 8:30 a.m. to 5:00 p.m.

Room: P002.

This meeting will discuss applications on the subjects of Africa, the Middle East, and Asia for the Bridging Cultures through Film grant program, submitted to the Division of Public Programs.

4. Date: September 09, 2014.

Time: 8:30 a.m. to 5:00 p.m.

Room: P002.

This meeting will discuss applications on the subject of U.S. History for the Digital Projects for the Public grant program, submitted to the Division of Public Programs.

5. Date: September 09, 2014.

Time: 8:30 a.m. to 5:00 p.m.

Room: Conference Call.

This meeting will discuss applications for the Humanities Initiatives at Historically Black Colleges and Universities grant program, submitted to the Division of Education Programs.

6. Date: September 10, 2014.

Time: 8:30 a.m. to 5:00 p.m.

Room: P002.

This meeting will discuss applications on the subjects of the Americas, U.S. and International for the Bridging Cultures through Film grant program, submitted to the Division of Public Programs.

7. Date: September 10, 2014.

Time: 8:30 a.m. to 5:00 p.m.

Room: Conference Call.

This meeting will discuss applications for the Humanities Initiatives at Hispanic-Serving Institutions grant program, submitted to the Division of Education Programs.

8. Date: September 11, 2014.

Time: 8:30 a.m. to 5:00 p.m.

Room: Conference Call.

This meeting will discuss applications for the Humanities Initiatives at Hispanic-Serving Institutions grant program, submitted to the Division of Education Programs.

9. Date: September 11, 2014.

Time: 8:30 a.m. to 5:00 p.m.

Room: P002.

This meeting will discuss applications on the subjects of Europe and Russia for the Bridging Cultures through Film grant program, submitted to the Division of Public Programs.

10. Date: September 15, 2014.

Time: 8:30 a.m. to 5:00 p.m.

Room: P002.

This meeting will discuss applications on the subjects of African American History and Culture and Historic Sites for the Digital Projects for the Public grant program, submitted to the Division of Public Programs.

11. Date: September 16, 2014.

Time: 8:30 a.m. to 5:00 p.m.

Room: P002.

This meeting will discuss applications on the subject of Transcultural for the Digital Projects for the Public grant program, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: August 12, 2014.
Lisette Voyatzis,
Committee Management Officer.

[FR Doc. 2014-19366 Filed 8-14-14; 8:45 am]

BILLING CODE 7536-01-P